DEPARTMENT OF COMMERCE

National Oceanic and Atmospheric Administration

RIN 0648-XG874

Taking of Marine Mammals Incidental to Specific Activities; Taking of Marine Mammals Incidental to Pile Driving and Removal Activities During Construction of a Cruise Ship Berth, Hoonah, Alaska

Correction

In notice document 2019-08848 beginning on page 18495 in the issue of Wednesday, May 1, 2019, make the following corrections:

1. On page 18511, Table 5 should read as follows:

Table 5—NMFS Technical Guidance (2018) User Spreadsheet Input To Calculate PTS Isopleths for Vibratory Pile Driving
User Spreadsheet Input—vibratory pile driving/anchoring and socketing spreadsheet tab A.1 Vibratory pile driving used | User Spreadsheet Input—vibratory pile driving/anchoring and socketing spreadsheet tab A.1 Vibratory pile driving used: 24-in piles (permanent) | User Spreadsheet Input—vibratory pile driving/anchoring and socketing spreadsheet tab A.1 Vibratory pile driving used: 30-in piles (temporary install) | User Spreadsheet Input—vibratory pile driving/anchoring and socketing spreadsheet tab A.1 Vibratory pile driving used: 30-in piles (temporary removal) | User Spreadsheet Input—vibratory pile driving/anchoring and socketing spreadsheet tab A.1 Vibratory pile driving used: 30-in piles (permanent) | User Spreadsheet Input—vibratory pile driving/anchoring and socketing spreadsheet tab A.1 Vibratory pile driving used: 36-in piles (permanent) | User Spreadsheet Input—vibratory pile driving/anchoring and socketing spreadsheet tab A.1 Vibratory pile driving used: 42-in piles (permanent) | User Spreadsheet Input—vibratory pile driving/anchoring and socketing spreadsheet tab A.1 Vibratory pile driving used: 8-in anchoring | User Spreadsheet Input—vibratory pile driving/anchoring and socketing spreadsheet tab A.1 Vibratory pile driving used: 33-in anchoring | User Spreadsheet Input—vibratory pile driving/anchoring and socketing spreadsheet tab A.1 Vibratory pile driving used: 24-in and 30-in socketing
Source Level (RMS SPL) | 161.9 | 161.9 | 161.9 | 161.9 | 168.2 | 168.2 | 166.2 | 166.2 | 166.2
Weighting Factor Adjustment (kHz) | 2.5 | 2.5 | 2.5 | 2.5 | 2.5 | 2.5 | 2.5 | 2.5 | 2.5
Number of piles within 24-hr period | 4 | 6 | 6 | 2 | 2 | 2 | 1 | 2 | 2
Duration to drive a single pile (min) | 10 | 20 | 10 | 30 | 30 | 60 | 60 | 240 | 60
Propagation (xLogR) | 15 | 15 | 15 | 15 | 15 | 15 | 15 | 15 | 15
Distance of source level measurement (meters) * | 10 | 10 | 10 | 10 | 10 | 10 | 10 | 10 | 10

2. On page 18515, Table 9 should read as follows:

Table 9—Proposed Take Estimates as a Percentage of Stock Abundance
Species | Stock (NEST) | Level A harassment | Level B harassment | Percent of stock
Minke Whale | N/A | 0 | 9 | N/A.
Humpback Whale | Hawaii DPS (9,487) ᵃ | 0 | 406 | 4.3.
| Mexico DPS (606) ᵃ |  | 27 (Total 433.) | 4.5.
Gray Whale | Eastern North Pacific (26,960) | 0 | 3 | Less than 1 percent.
Killer Whale | Alaska Resident (2,347) | 0 | 469 | 19.9 ᵇ
| Northern Resident (261) |  | 52 | 19.9 ᵇ
| West Coast Transient (243) |  | 49 (Total 570.) | 20.2. ᵇ
Pacific White-Sided Dolphin | North Pacific (26,880) | 0 | 164 | Less than 1 percent.
Dall's Porpoise | Alaska (83,400) ᶜ | 0 | 1,038 | 1.2.
Harbor Porpoise | NA | 32 | 1,932 | NA.
Harbor Seal | Glacier Bay/Icy Strait (7,210) | 16 | 156 | 2.16.
Steller Sea Lion | Eastern U.S. (41,638) | 15 | 520 | 1.25
| Western U.S. (53,303) | 1 (Total 16.) | 39 (Total 559.) | Less than 1 percent.
ᵃ Under the MMPA humpback whales are considered a single stock (Central North Pacific); however, we have divided them here to account for DPSs listed under the ESA. Using the stock assessment from Muto et al. 2018 for the Central North Pacific stock (10,103 whales) and calculations in Wade et al. 2016; 9,487 whales are expected to be from the Hawaii DPS and 606 from the Mexico DPS.
ᵇ Take estimates are weighted based on calculated percentages of population for each distinct stock, assuming animals present would follow same probability of presence in project area.
ᶜ Jefferson et al. 2019 presents the first abundance estimates for Dall's porpoise in the waters of Southeast Alaska with highest abundance recorded in spring (N=5,381, CV= 25.4%), lower numbers in summer (N=2,680, CV=19.6%), and lowest in fall (N=1,637, CV=23.3%). However, NMFS currently recognizes a single stock of Dall's porpoise in Alaskan waters and an estimate of 83,400 Dall's porpoises is used by NMFS for the entire stock (Muto et al., 2018).

[FR Doc. C1-2019-08848 Filed 5-8-19; 8:45 am]

BILLING CODE 1301-00-D